DEPARTMENT OF TRANSPORTATION

Federal Motor Carrier Safety Administration

[Docket No. FMCSA-2019-0004]

Qualification of Drivers; Exemption Applications; Vision

AGENCY: Federal Motor Carrier Safety Administration (FMCSA), DOT.

ACTION: Notice of applications for exemption; request for comments.

SUMMARY: FMCSA announces receipt of applications from 12 individuals for an exemption from the vision requirement in the Federal Motor Carrier Safety Regulations (FMCSRs) to operate a commercial motor vehicle (CMV) in interstate commerce. If granted, the exemptions will enable these individuals to operate CMVs in interstate commerce without meeting the vision requirement in one eye.

DATES: Comments must be received on or before March 25, 2019.

ADDRESSES: You may submit comments identified by the Federal Docket Management System (FDMS) Docket No. FMCSA-2019-0004 using any of the following methods:

• Federal eRulemaking Portal: Go to http://www.regulations.gov. Follow the online instructions for submitting comments.

• Mail: Docket Management Facility; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., ET, Monday through Friday, except Federal Holidays.

• Fax: 1-202-493-2251.

To avoid duplication, please use only one of these four methods. See the “Public Participation” portion of the SUPPLEMENTARY INFORMATION section for instructions on submitting comments.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are 8:30 a.m. to 5 p.m., ET, Monday through Friday, except Federal holidays. If you have questions regarding viewing or submitting material to the docket, contact Docket Services, telephone (202) 366-9826.

SUPPLEMENTARY INFORMATION:

I. Public Participation

A. Submitting Comments

If you submit a comment, please include the docket number for this notice (Docket No. FMCSA-2019-0004), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to http://www.regulations.gov, put the docket number, FMCSA-2019-0004, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Documents and Comments

To view comments, as well as any documents mentioned in this notice as being available in the docket, go to http://www.regulations.gov. Insert the docket number, FMCSA-2019-0004, in the keyword box, and click “Search.” Next, click the “Open Docket Folder” button and choose the document to review. If you do not have access to the internet, you may view the docket online by visiting the Docket Management Facility in Room W12-140 on the ground floor of the DOT West Building, 1200 New Jersey Avenue SE, Washington, DC 20590, between 9 a.m. and 5 p.m., ET, Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

Under 49 U.S.C. 31136(e) and 31315, FMCSA may grant an exemption from the FMCSRs for a five-year period if it finds such exemption would likely achieve a level of safety that is equivalent to, or greater than, the level that would be achieved absent such exemption. The statute also allows the Agency to renew exemptions at the end of the five-year period. FMCSA grants exemptions from the FMCSRs for a two-year period to align with the maximum duration of a driver's medical certification.

The 12 individuals listed in this notice have requested an exemption from the vision requirement in 49 CFR 391.41(b)(10). Accordingly, the Agency will evaluate the qualifications of each applicant to determine whether granting an exemption will achieve the required level of safety mandated by statute.

The physical qualification standard for drivers regarding vision found in 49 CFR 391.41(b)(10) states that a person is physically qualified to drive a CMV if that person has distant visual acuity of at least 20/40 (Snellen) in each eye without corrective lenses or visual acuity separately corrected to 20/40 (Snellen) or better with corrective lenses, distant binocular acuity of at least 20/40 (Snellen) in both eyes with or without corrective lenses, field of vision of at least 70° in the horizontal Meridian in each eye, and the ability to recognize the colors of traffic signals and devices showing standard red, green, and amber.

In July 1992, the Agency first published the criteria for the Vision Waiver Program, which listed the conditions and reporting standards that CMV drivers approved for participation would need to meet (Qualification of Drivers; Vision Waivers, 57 FR 31458, July 16, 1992). The current Vision Exemption Program was established in 1998, following the enactment of amendments to the statutes governing exemptions made by § 4007 of the Transportation Equity Act for the 21st Century (TEA-21), Public Law 105-178, 112 Stat. 107, 401 (June 9, 1998). Vision exemptions are considered under the procedures established in 49 CFR part 381 subpart C, on a case-by-case basis upon application by CMV drivers who do not meet the vision standards of 49 CFR 391.41(b)(10).

To qualify for an exemption from the vision requirement, FMCSA requires a person to present verifiable evidence that he/she has driven a commercial vehicle safely with the vision deficiency for the past three years. Recent driving performance is especially important in evaluating future safety, according to several research studies designed to correlate past and future driving performance. Results of these studies support the principle that the best predictor of future performance by a driver is his/her past record of crashes and traffic violations. Copies of the studies may be found at Docket Number FMCSA-1998-3637.

FMCSA believes it can properly apply the principle to monocular drivers, because data from the Federal Highway Administration's (FHWA) former waiver study program clearly demonstrated the driving performance of experienced monocular drivers in the program is better than that of all CMV drivers collectively (See 61 FR 13338, 13345, March 26, 1996). The fact that experienced monocular drivers demonstrated safe driving records in the waiver program supports a conclusion that other monocular drivers, meeting the same qualifying conditions as those required by the waiver program, are also likely to have adapted to their vision deficiency and will continue to operate safely.

The first major research correlating past and future performance was done in England by Greenwood and Yule in 1920. Subsequent studies, building on that model, concluded that crash rates for the same individual exposed to certain risks for two different time periods vary only slightly (See Bates and Neyman, University of California Publications in Statistics, April 1952). Other studies demonstrated theories of predicting crash proneness from crash history coupled with other factors. These factors—such as age, sex, geographic location, mileage driven and conviction history—are used every day by insurance companies and motor vehicle bureaus to predict the probability of an individual experiencing future crashes (See Weber, Donald C., “Accident Rate Potential: An Application of Multiple Regression Analysis of a Poisson Process,” Journal of American Statistical Association, June 1971). A 1964 California Driver Record Study prepared by the California Department of Motor Vehicles concluded that the best overall crash predictor for both concurrent and nonconcurrent events is the number of single convictions. This study used three consecutive years of data, comparing the experiences of drivers in the first two years with their experiences in the final year.

III. Qualifications of Applicants

Gary W. Brockway

Mr. Brockway, 63, has had a retinal vein occlusion in his right eye since 2015. The visual acuity in his right eye is 20/400, and in his left eye, 20/20. Following an examination in 2018, his optometrist stated, “In my opinion, Mr. Brockway has sufficient vision to perform the driving task [sic] required to operate a commercial vehicle.” Mr. Brockway reported that he has driven straight trucks for 44 years, accumulating 440,000 miles, and tractor-trailer combinations for 44 years, accumulating 880,000 miles. He holds a Class A CDL from Iowa. His driving record for the last three years shows no crashes and no convictions for moving violations in a CMV.

Robert W. Estes

Mr. Estes, 47, has had a chorioretinal scar in his left eye since 1971. The visual acuity in his right eye is 20/20, and in his left eye, counting fingers. Following an examination in 2018, his optometrist stated, “In conclusion of the examination results, in my opinion, Roger Estes has sufficient vision to perform the driving tasks required to operate a commercial vehicle.” Mr. Estes reported that he has driven straight trucks for 10 years, accumulating 110,000 miles. He holds an operator's license from Missouri. His driving record for the last three years shows no crashes and no convictions for moving violations in a CMV.

Gilbert J. Graybill

Mr. Graybill, 41, has had amblyopia in his left eye since childhood. The visual acuity in his right eye is 20/20, and in his left eye, 20/200. Following an examination in 2018, his optometrist stated, “In my professional opinion, Mr. Graybill displays sufficient vision function to commercially drive.” Mr. Graybill reported that he has driven straight trucks for three years, accumulating 260,000 miles. He holds an operator's license from Oklahoma. His driving record for the last three years shows no crashes and no convictions for moving violations in a CMV.

Richard D. Livingston, Jr.

Mr. Livingston, 42, has had amblyopia in his right eye since childhood. The visual acuity in his right eye is 20/50, and in his left eye, 20/20. Following an examination in 2018, his optometrist stated, “It is my medical opinion that Richard Livingston has the visual acuity skills needed to safely operate a commercial vehicle.” Mr. Livingston reported that he has driven straight trucks for 22 years, accumulating 44,000 miles. He holds an operator's license from Wisconsin. His driving record for the last three years shows no crashes and no convictions for moving violations in a CMV.

Edgar H. Meraz Gardea

Mr. Meraz Gardea, 37, has had a macular hole in his left eye since 2004. The visual acuity in his right eye is 20/20, and in his left eye, 20/100. Following an examination in 2018, his ophthalmologist stated, “Mr. Meraz has been driving commercial vehicle for many years and has the sufficient vision to perform the driving tasks required to operate a commercial vehicle.” Mr. Meraz Gardea reported that he has driven straight trucks for 19 years, accumulating 231,000 miles, and tractor-trailer combinations for 17 years, accumulating 207,740 miles. He holds an operator's license from New Mexico. His driving record for the last three years shows no crashes and one conviction for a moving violation in a CMV: Failure to obey traffic signal or light.

Joshua G. Millican

Mr. Millican, 36, has a prosthetic right eye due to a traumatic incident in childhood. The visual acuity in his right eye is no light perception, and in his left eye, 20/20. Following an examination in 2018 his optometrist stated, “In my medical opinion, Mr. Mullican [sic] has sufficient vision to perform the driving tasks and requirements needed to operate a commercial vehicle.” Mr. Millican reported that he has driven straight trucks for 15 years, accumulating 600,000 miles, and tractor-trailer combinations for ten years, accumulating 750,000 miles. He holds a Class A CDL from Ohio. His driving record for the last three years shows no crashes and no convictions for moving violations in a CMV.

Daniel C. Reichert

Mr. Reichert, 41, has a macular scar in his right eye due to a traumatic incident in 1999. The visual acuity in his right eye is 20/400, and in his left eye, 20/20. Following an examination in 2018, his optometrist stated, “I feel that Mr. Reichert is adequate to operate a commercial vehicle with his peripheral vision in the right eye and a normal left eye.” Mr. Reichert reported that he has driven straight trucks for 14 years, accumulating 112,000 miles, and tractor-trailer combinations for 14 years, accumulating 154,000 miles. He holds a Class AM CDL from Georgia. His driving record for the last three years shows no crashes and no convictions for moving violations in a CMV.

Gregory D. Shirah

Mr. Shirah, 53, has had macular degeneration in his right eye since 2015. The visual acuity in his right eye is 20/80, and in his left eye, 20/25. Following an examination in 2018, his optometrist stated, “Mr. Shirah has sufficient vision to operate a commercial vehicle.” Mr. Shirah reported that he has driven straight trucks for seven years, accumulating 350,000 miles, and tractor-trailer combinations for 20 years, accumulating two million miles. He holds a Class A CDL from Alabama. His driving record for the last three years shows no crashes and no convictions for moving violations in a CMV.

Balwant Singh

Mr. Singh, 28, has a macular scar in his left eye due to a traumatic incident in 2013. The visual acuity in his right eye is 20/20, and in his left eye, 20/150. Following an examination in 2018, his optometrist stated, “Based on today's findings, it is my medical opinion that I believe Mr. Balwant Singh has sufficient, stable vision in order to perform all tasks required of him to safely operate a commercial vehicle.” Mr. Singh reported that he has driven straight trucks for six years, accumulating 420,000 miles, and tractor-trailer combinations for six years, accumulating 420,000 miles. He holds a Class A CDL from California. His driving record for the last three years shows no crashes and one conviction for a moving violation in a CMV; driving in an improper lane.

Tristan A. Twito

Mr. Twito, 35 has had chorioretinal scarring in his left eye due to a traumatic incident in childhood. The visual acuity in his right eye is 20/20, and in his left eye, hand motion. Following an examination in 2018, his optometrist stated, “The patient has sufficient vision to perform the driving tasks required to operate a commercial vehicle.” Mr. Twito reported that he has driven straight trucks for one year, accumulating 30,000 miles, and tractor-trailer combinations for 12 years, accumulating 1.2 million miles. He holds a Class A CDL from Texas. His driving record for the last three years shows no crashes and no convictions for moving violations in a CMV.

Michael L. Watters, Sr.

Mr. Watters, 63, has a prosthetic right eye due to a traumatic incident in 2004. The visual acuity in his right eye is no light perception, and in his left eye, 20/30. Following an examination in 2018, his optometrist stated, “Patient Michael Watters . . . has been determined by his optometrist to have sufficient vision to perform the driving tasks required to operate a commercial vehicle.” Mr. Watters reported that he has driven straight trucks for four years, accumulating 512,000 miles, and tractor-trailer combinations for eight years, accumulating 1.19 million miles. He holds a Class A CDL from Pennsylvania. His driving record for the last three years shows no crashes and no convictions for moving violations in a CMV.

Dana J. York

Mr. York, 50, has had amblyopia in his left eye since childhood. The visual acuity in his right eye is 20/20, and in his left eye, 20/80. Following an examination in 2018, his optometrist stated, “Patient has sufficient vision to perform the driving tasks required to operate a commercial vehicle.” Mr. York reported that he has driven tractor-trailer combinations for 25 years, accumulating 400,000 miles. He holds an operator's license from Pennsylvania. His driving record for the last three years shows no crashes and no convictions for moving violations in a CMV.

IV. Request for Comments

In accordance with 49 U.S.C. 31136(e) and 31315, FMCSA requests public comment from all interested persons on the exemption petitions described in this notice. We will consider all comments and material received before the close of business on the closing date indicated in the dates section of the notice.

Issued on: February 13, 2019.
Larry W. Minor,
Associate Administrator for Policy.

[FR Doc. 2019-02966 Filed 2-20-19; 8:45 am]

BILLING CODE 4910-EX-P